DEPARTMENT OF TRANSPORTATION

Federal Aviation Administration

Cancellation of the Preparation of an Air Tour Management Plan and Environmental Assessment for Kalaupapa National Historical Park, Molokai, HI

AGENCY: Federal Aviation Administration, DOT.

ACTION: Notice of cancellation of preparation of an Air Tour Management Plan and Environmental Assessment.

SUMMARY: The Federal Aviation Administration (FAA) announces that it will no longer prepare an Air Tour Management Plan (ATMP) and Environmental Assessment (EA) for commercial air tour operations over Kalaupapa National Historical Park (NHP), at Molokai, Hawaii. The FAA has stopped work on preparation of the ATMP and EA based upon no further operating authority interest by commercial air tour operators who had been granted Interim Operating Authority to conduct commercial air tour operations over the park unit and there are no new entrant requests to conduct commercial air tour operations.

FOR FURTHER INFORMATION CONTACT: Peter F. Ciesla, Program Manager, AWP-4, Federal Aviation Administration, Western-Pacific Region, P.O. Box 92007, Los Angeles, California 90009-2007. Telephone: (310) 725-3818. E-mail: Pete.Ciesla@faa.gov.

SUPPLEMENTARY INFORMATION: In February 2004, the FAA in cooperation with the National Park Service (NPS) initiated development of an ATMP for Kalaupapa NHP, pursuant to the National Parks Air Tour Management Act of 2000 (Public Law 106-181) and its implementing regulations contained in Title 14, Code of Federal Regulations, part 136, National Parks Air Tour Management. The ATMP process for Kalaupapa NHP was initiated based on receipt of applications for Operating Authority from existing commercial air tour operators to conduct commercial air tour operations over this park unit. In accordance with the Act and Regulations, the FAA issued Interim Operating Authority for these commercial air tour operators to conduct air tours over the park. The FAA and NPS also began preparing an EA to comply with the National Environmental Policy Act, which requires Federal agencies to consider the environmental issues associated with a Federal action. The FAA had been notified by the commercial air tour operators that had requested Operating Authority, that they are no longer conducting commercial air tour operations over Kalaupapa NHP, indicating their intent not to conduct commercial air tours below 5,000 feet above ground level over or within one-half mile of this park unit. The FAA has removed the Interim Operating Authority from the Operations Specifications for these commercial air tour operators to conduct commercial air tour operations over the park. Since there are no existing commercial air tour operators nor any new entrants seeking to conduct commercial air tour operations over Kalaupapa NHP, the FAA has determined that the purpose and need for an ATMP no longer exist. The FAA has decided to stop work and discontinue preparation of the ATMP and EA for Kalaupapa NHP.

Issued in Hawthorne, California, on January 22, 2007.
Peter F. Ciesla,
Program Manager, Air Tour Management Program, Western-Pacific Region, AWP-4.

[FR Doc. 07-339 Filed 1-25-07; 8:45 am]

BILLING CODE 4910-13-M